ENVIRONMENTAL PROTECTION AGENCY

[FRL-7827-7]

Forty-Third Street Bay Drum Superfund Site; Notice of Settlement

AGENCY: Environmental Protection Agency.

ACTION: Notice of settlement.

SUMMARY: Under section 122(h) (1) of the Comprehensive Environmental Response, Compensation and Liability Act (CERCLA), the Environmental Protection Agency (EPA) has entered into an Agreement for Recovery of Past Cost (Agreement) at the Forty-Third Street Bay Drum Superfund Site (Site) located in Tampa, Hillsborough County, Florida, with twenty-nine (29) parties. EPA will consider public comments on the Agreement until November 15, 2004. EPA may withdraw from or modify the Agreement should such comments disclose facts or considerations which indicate the Agreement is inappropriate, improper, or inadequate. Copies of the Agreement are available from: Ms. Paula V. Batchelor, U.S. Environmental Protection Agency, Region 4, Superfund Enforcement & Information Management Branch, Waste Management Division, 61 Forsyth Street, SW., Atlanta, Georgia 30303, (404) 562-8887, Batchelor.Paula@EPA.GOV.

Written comment may be submitted to Ms. Batchelor at the above address within 30 days of the date of publication.

Dated: September 24, 2004.
Rosalind H. Brown,
Chief, Superfund Information & Management Branch, Waste Management Division.

[FR Doc. 04-23034 Filed 10-13-04; 8:45 am]

BILLING CODE 6560-50-P